SECURITIES AND EXCHANGE COMMISSION

[Release No. 34-51244A; File No. SR-CBOE-2003-30]

Self-Regulatory Organizations; Chicago Board Options Exchange, Incorporated; Notice of Filing and Order Granting Accelerated Approval to a Proposed Rule Change and Amendment Nos. 1, 2, 3, and 4 Thereto Relating to Position Limits and Exercise Limits

March 15, 2005.

Correction

In Part V of Release No. 34-51244, issued February 23, 2005,¹ the Commission is replacing the following sentence:

¹ SeeSecurities Exchange Act Release No. 51244 (February 23, 2005), 70 FR 10010 (March 1, 2005).

“It is therefore ordered, pursuant to section 19(b)(2) of the Act,² that the proposed rule change (SR-CBOE-2003-30), as amended, is hereby approved on an accelerated basis for a pilot period to expire on August 23, 2005.”

² 15 U.S.C. 78s(b)(2).

with:

“It is therefore ordered, pursuant to section 19(b)(2) of the Act,³ that the proposed rule change (SR-CBOE-2003-30), as amended, is hereby approved on an accelerated basis, with the portion of the proposed rule change that relates to increases in position and exercise limits approved for a pilot period to expire on August 23, 2005.”

³ 15 U.S.C. 78s(b)(2).

For the Commission, by the Division of Market Regulation, pursuant to delegated authority.⁴
⁴ 17 CFR 200.30(a)(12).
Margaret H. McFarland,
Deputy Secretary.

[FR Doc. E5-1210 Filed 3-18-05; 8:45 am]

BILLING CODE 8010-01-P